DEPARTMENT OF TRANSPORTATION

Federal Transit Administration

FTA Supplemental Fiscal Year (FY) 2017 Apportionments, Allocations, and Program Information

AGENCY: Federal Transit Administration (FTA), DOT.

ACTION: Notice.

SUMMARY: The Federal Transit Administration (FTA) annually publishes one or more notices to apportion funds appropriated by law. This is the second notice which announces the remaining apportionment for programs funded with Fiscal Year (FY) 2017 contract authority.

FOR FURTHER INFORMATION CONTACT: For general information about this notice contact Kimberly Sledge, Director, Office of Transit Programs, at (202) 366-2053. Please contact the appropriate FTA regional office for any specific requests for information or technical assistance. A list of FTA regional offices and contact information is available on the FTA Web: www.transit.dot.gov.

SUPPLEMENTARY INFORMATION:

I. Overview

Funding appropriated to FTA's public transportation assistance programs under the Further Continuing and Security Assistance Appropriations Act, 2017 (Pub. L. 114-254) expired on April 28, 2017. Since that time, Congress has enacted the Consolidated Appropriations Act, 2017, Public Law 115-31 on May 5, 2017 (Appropriations Act, 2017) that allows FTA to continue its current program funding through September 30, 2017.

The Appropriations Act, 2017 gave FTA appropriated resources for Administrative Expenses, Formula, Competitive and Research Programs, Capital Investment Grants (CIG), Technical Assistance and Training Programs, grants to the Washington Metropolitan Area Transportation Authority, and other FTA programs totaling $12,414,502,043. The Appropriations Act, 2017 provides an obligation limitation of $9,733,706,043 of contract authority for FTA programs funded from the Mass Transit Account of the Highway Trust Fund, $2,680,796,000 funded from General Fund accounts and an additional $117,839,000 of prior year recovered funds for CIG.

On January 19, 2017, FTA published an apportionments notice that apportioned approximately 7/12ths of the FY 2017 authorized contract authority among potential program recipients based on contract authority that was available from October 1, 2016 through April 28, 2017 (82 FR 12). That notice also provided relevant information about the FY 2017 funding available and grant management and application procedures. A copy of that notice and accompanying tables can be found on the FTA Web: www.transit.dot.gov/funding/apportionments.

This document provides notice to stakeholders that FTA is apportioning the remainder of the full-year FY 2017 authorized contract authority through September 30, 2017—among potential program recipients according to statutory formulas in 49 U.S.C. Chapter 53. FTA has posted tables displaying the funds available to eligible states and urbanized areas on the FTA Web: www.transit.dot.gov/funding/apportionments. In addition, the National Transit Database (NTD) and Census Data used in the funding formulas can be found at the same location.

II. Formula Apportionments

FTA's full-year FY 2017 formula apportionment tables continue to rely on the Census data and National Transit Database (NTD) data that was used to calculate the FY 2017 Continuing Resolution (CR) tables. A detailed description of the NTD and Census data used in the calculations can be found in FTA's Apportionment Notice published in conjunction with the FY 2017 CR tables. (Federal Register Vol. 82, No. 12, January 19, 2017).

FTA's FY 2017 CR tribal transit formula table inadvertently omitted three tribes eligible for formula funding in FY 2017: The Mashantucket Pequot Tribal Nation, the Hualapai Indian Tribe, and the Mashpee Wampanoag Tribe. Apportionments for these tribes are included in FTA's full year tribal transit formula table.

III. Program Highlights and Grants Guidance

A. State Safety Oversight Program Certification

Federal transit law requires States with rail transit systems operating within their jurisdictions to establish a State Safety Oversight (SSO) program that must be certified by the Federal Transit Administration (FTA) by April 15, 2019. The FTA is prohibited by law from awarding any funds to any transit agency within a State that fails to obtain certification by the deadline. The FTA recommends that States submit their complete SSO program certification applications by April 15, 2018, but no later than September 30, 2018. For more information on the certification requirements, please visit the FTA Web: www.transit.dot.gov/regulations-and-guidance/safety/transit-safety-oversight-tso.

B. 100 Bus Special Rule

Section 165 of the Consolidated Appropriations Act, 2017 amended the law governing the special provision for operating assistance under 5307(a)(2), commonly known as the 100-bus special rule, by replacing the exception to the special rule established in the FAST Act with a new alternative method for determining the amounts that may be used for operating assistance. Under 5307(a)(2)(A), transit agencies that operate between 76 and 100 buses in maximum revenue service may use 50 percent of the share of the UZA's apportionment attributable to them based on vehicle revenue hours reported to the NTD. Transit agencies that operate 75 or fewer buses in maximum revenue service may use 75 percent of the share of the UZA's apportionment attributable to them based on vehicle revenue hours reported to the NTD. These amounts are published in Apportionment Table 3-A.

The recently enacted amendment under 5307(a)(2)(B), provides an alternative to these amounts by allowing qualifying recipients with between 76 and 100 buses in maximum revenue service to receive operating assistance in an amount not to exceed 50 percent of the amount allocated to such systems through the local planning process and in the designated recipient's final program of projects. Likewise, recipients with 75 or fewer buses in maximum revenue service may now receive operating assistance in an amount not to exceed 75 percent of the amount allocated to such systems through the local planning process and in the designated recipient's final program of projects. However, in both cases, the resulting amount under this alternative may not exceed the maximum amount based on vehicle revenue hours by more than 10 percent. FTA has published these amounts and related information in Apportionment Table 3-A.

Agencies interested in utilizing the recently enacted alternative are advised that the new alternative operating assistance cap under 5307(a)(2)(B) is only available as a percentage of the actual program funding allocated to their agency for projects. For example, consider an agency that operates 80 buses in maximum service that is permitted to use $100,000 for operating expenses under the original 5307(a)(2)(A) operating assistance cap. If this agency chooses to use the new 5307(a)(2)(B) alternative, it may use up to $110,000 for operating assistance, but to do so it must have been allocated at least $220,000 through the planning process ($220,000 allocation/50 percent = $110,000). The exception to this provision previously authorized at 5307(a)(3), permitting recipients in an urbanized area to agree in writing on an alternative method for allocating funding available for operating assistance, has been repealed and no longer applies.

C. Fixed Guideway Capital Investment Grants Program

Section 161 of the Consolidated Appropriations Act, 2017 extends the period of availability of FY 2017 Fixed Guideway Capital Investment Grants (CIG) program funds through September 30, 2021. Please note that the President's Budget for FY 2018 proposes no funding for new CIG projects, and thus project sponsors should understand they are undertaking work on projects at their own risk which may not receive CIG funding.

Matthew J. Welbes,
Executive Director.

[FR Doc. 2017-14403 Filed 7-7-17; 8:45 am]

BILLING CODE P